DEPARTMENT OF LABOR

Proposed Collection for Workforce Information Grants to States Application Instructions for Program Year (PY) 2008; Comment Request

AGENCY: Employment and Training Administration, Department of Labor.

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning a revision to a currently approved collection for Workforce Information Grants to States under OMB Control Number 1205-0417.

A copy of the proposed information collection request (ICR) can be obtained by contacting the office listed below in the addressee section of this notice or by accessing: http://www.doleta.gov/OMBCN/OMBControlNumber.cfm.

DATES: Written comments must be submitted to the office listed in the addressee's section below on or before February 12, 2008.

ADDRESSES: Submit written comments to the Employment and Training Administration, Room S-4231, 200 Constitution Avenue, NW., Washington, DC 20210, Attention: Anthony Dais, Telephone number: 202-693-2784 (this is not a toll-free number). Fax: 202-693-3015. E-mail: dais.anthony@dol.gov.

SUPPLEMENTARY INFORMATION:

I. Background

In May 2005, The Employment and Training Administration (ETA) received three year approval from the Office of Management and Budget (OMB) to publish without change the annual planning guidance for the Workforce Information Grants to States under OMB Control Number 1205-0417. This approval is scheduled to expire on May 31, 2008.

This Federal Register Notice is to request public comments and recommendations regarding the revision of the information collection.

The purpose of the information collection is to strengthen and support state workforce and economic information integration, analysis and distribution; retain a high level of state flexibility; and reduce the state reporting burden. It is ETA's goal to continue the transformation of workforce information and services to support regional economies. Therefore, ETA expects states to participate in regionally-focused economic and workforce activities; actively collaborate with economic development, business and education partners to create and utilize an array of current and real-time workforce and economic data; integrate workforce information and economic data in a manner that results in accessible, user-friendly tools and products; assist economic development project teams assess and identify asset gaps; and help develop integrated economic development strategies that unify workforce and economic development systems. The data/information collection required from each grantee includes:

(a) Submission of an annual state certification of a statement of work attesting to the planned accomplishment of expected grant deliverables signed by the Governor, or by both the Administrator of the State Workforce Agency (SWA) and the Chair of the State Workforce Investment Board (SWIB).

(b) A published detailed state economic analysis report for use by the Governor and the SWIB.

(c) Submission of an annual grant performance report signed by the Governor, or by both the Administrator of the SWA and Chair of the SWIB.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Notice—Proposed collection; comment request.

Type of Review: Revision.

Agency: Employment and Training Administration.

Title: Workforce Information Grants to States Application Instructions for Program Year (PY) 2008.

OMB Number: 1205-0417.

Recordkeeping: N/A.

Affected Public: State, Local, or Tribal Government.

Form: N/A.

Total Respondents: 54.

Frequency: Annual.

Total Responses: 162.

Average Time per Response: Grant Prep & Certification—63 hours; State Economic Analysis Report—434 hours; and Annual Report (on state grant performance)—80 hours;

Estimated Total Burden Hours: 31,158.

Total Burden Cost: $0.

Activity | Number of respondents | Responses per year | Total responses | Hour per response | Total burden hours
Grant Prep & Certification | 54 | 1 | 54 | 63 | 3,402
State Economic Analysis Report | 54 | 1 | 54 | 434 | 23,436
Annual Report | 54 | 1 | 54 | 80 | 4,320
Totals | 54 | 3 | 162 | 577 | 31,158

Comments submitted in response to this comment request will be summarized and/or included in the request for Office of Management and Budget approval of the information collection request; they will also become a matter of public record.

Dated: December 7, 2007.
Gay M. Gilbert,
Administrator, Office of Workforce Investment, Employment and Training Administration.

[FR Doc. E7-24180 Filed 12-13-07; 8:45 am]

BILLING CODE 4510-FN-P